DEPARTMENT OF HEALTH AND HUMAN SERVICES

National Institutes of Health; Center for Scientific Review

Amended Notice of Meeting

Notice is hereby given of a change in the meeting of the Molecular and Integrative Signal Transduction Study Section, January 27, 2011, 8 a.m. to January 28, 2011, 5:30 p.m., Hotel Palomar, 2121 P Street, NW., Washington, DC, 20037 which was published in the Federal Register on December 10, 2010, 75 FR 76994-76995.

The meeting will be one day only January 27, 2011. The meeting time remains the same. The meeting is closed to the public.

Dated: January 11, 2011.
Jennifer S. Spaeth,
Director, Office of Federal Advisory Committee Policy.

[FR Doc. 2011-1042 Filed 1-18-11; 8:45 am]

BILLING CODE 4140-01-P